DEPARTMENT OF TRANSPORTATION

Federal Aviation Administration

14 CFR Part 71

[Docket No. FAA-2003-15471; Airspace Docket No. 03-AWA-6]

RIN 2120-AA66

Proposed Modification of the Minneapolis Class B Airspace Area; MN

AGENCY: Federal Aviation Administration (FAA), DOT.

ACTION: Notice of proposed rulemaking (NPRM).

SUMMARY: This action proposes to modify the current Minneapolis, MN, Class B airspace area. Specifically, this action proposes airspace changes to contain large turbine-powered aircraft during operations to the new Runway 17/35 and to address an increase in aircraft operations to and from the Minneapolis-St. Paul International (Wold-Chamberlain) Airport (MSP). The FAA is proposing this action to enhance safety and improve the management of aircraft operations in the Minneapolis terminal area. Further, this effort supports the FAA's national airspace redesign goal of optimizing terminal and en route airspace areas to reduce aircraft delays and improve system capacity.

DATES: Comments must be received on or before January 23, 2004.

ADDRESSES: Send comments on this proposal to the Docket Management System, U.S. Department of Transportation, Room Plaza 401, 400 Seventh Street, SW., Washington, DC 20590-0001. You must identify both docket numbers, FAA-2003-15471/Airspace Docket No. 03-AWA-6, at the beginning of your comments.

You may also submit comments through the Internet at http://dms.dot.gov. You may review the public docket containing the proposal, any comments received, and any final disposition in person in the Dockets Office between 9 a.m. and 5 p.m., Monday through Friday, except Federal holidays. The Dockets Office (telephone 1-800-647-5527) is on the plaza level of the Department of Transportation NASSIF Building at the above address.

An informal docket may also be examined during normal business hours at the office of the Regional Air Traffic Division, Federal Aviation Administration, 2300 East Devon Avenue, Des Plaines, IL 60018.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket Nos. FAA-2003-15471/Airspace Docket No. 03-AWA-6.” The postcard will be date/time stamped and returned to the commenter. All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Superintendent of Documents Web page at http://www.access.gpo.gov/nara.

Additionally, any person may also obtain a copy of this notice by submitting a request to the FAA, Office of Air Traffic Airspace Management, ATA-400, 800 Independence Avenue, SW., Washington, DC 20591, or by calling (202) 267-8783. Communications must identify both docket numbers for this notice. Persons interested in being placed on a mailing list for future NPRM's should call the FAA's, Office of Rulemaking, (202) 267-9677, for a copy of Advisory Circular No. 11-2A, Notice of Proposed Rulemaking Distribution System, which describes the application procedure.

Background

In August 1979, the FAA issued a final rule establishing the Minneapolis, MN Terminal Control Area (TCA). This area was later re-classified as a Class B airspace area as a result of the Airspace Reclassification Final Rule (56 FR 65638); however, this final rule did not alter the dimensions of the original TCA.

Since its establishment, the Minneapolis terminal area has experienced a significant growth in aircraft operations from 233,000 in 1979 to over 518,000 in 2002. An analysis of MSP aircraft operations indicates that this increase has resulted in aircraft (arriving and departing MSP) frequently flying outside the horizontal and vertical limits of the current MSP Class B airspace area.

Further, in the first half of 2002, there were 17 traffic alert and collision avoidance system (TCAS) events reported in the area. These TCAS events occurred in the airspace areas proposed in this notice as a modification to the current MSP Class B airspace area. A TCAS event is defined as a situation where a pilot receives an alert on an aircraft in close proximity and is provided climb or descend instructions to avoid that aircraft. The TCAS sounds an alarm when it determines that another aircraft will pass too closely to the subject aircraft. The referenced TCAS events were reported by air carrier aircraft and reflected possible conflicts with non-ATC controlled visual flight rules (VFR) aircraft.

Other action taken outside of this proposal in an effort to better accommodate the increase in aircraft operations was the installation of a precision runway monitor (PRM). The PRM allows for simultaneous ILS approaches. In 1998, the PRM was installed to facilitate simultaneous ILS approaches to closely spaced parallel runways (Runway 12L/30R and 30L/12R) using minimum separation between arriving aircraft. Although this has increased airport capacity, during peak operations, high performance aircraft must frequently intercept the localizers for ILS approaches to the above runways more than 20 nautical miles (NM) from MSP at 4,000 feet above mean sea level (MSL) and 5,000 feet MSL. This results in aircraft initiating approach procedures outside of the confines of the current MSP Class B airspace area. Also, a new runway, scheduled to be opened in November 2004, is under construction. The new runway (17/35) will provide increased airport capacity. However, aircraft conducting instrument operations to this new runway would also frequently need to intercept the instrument approaches outside the Class B airspace area if the current Class B airspace area is not expanded. The proposed Class B airspace modification will address this matter.

Public Input

As announced in Letter to Airmen No. 00-02 and in the Federal Register (65 FR 64642), informal airspace meetings were held on January 9, 2001, at the Army Aviation Support Facility, St. Paul, MN, and on January 13, 2001, at the Flying Cloud Hennepin Technical College, Eden Prairie, MN.

These meetings allowed interested airspace users an opportunity to present their views and offer suggestions regarding planned modifications to the MSP Class B airspace area. All comments received during the informal airspace meetings and the subsequent comment periods were considered in developing this proposal.

Analysis of Comments Received

Seven commenters ask questions or volunteered to participate in the aeronautical study process.

Four commenters, three general aviation pilots and Northwest Airlines, concurred with the proposal.

Three commenters, the Aircraft Owners and Pilots Association (AOPA), the Experimental Aircraft Association (EAA), and the Airline Pilot's Association suggested raising the base altitude between 20 NM and 30 NM from the Minneapolis-St. Paul International (Wold-Chamberlain) Airport Distance Measuring Equipment (DME) Antenna (I-MSP) and developing extensions at lower altitudes to the east and west of MSP to accommodate aircraft conducting simultaneous operations to the parallel runways. The FAA agrees with these comments and has changed the planned modifications to reflect these suggestions.

Sixty-five commenters stated that the planned modifications would require pilots to fly farther to conduct training and would compress VFR aircraft operations into a smaller area. One of these commenters also stated an opposition to raising the ceiling from 8,000 feet MSL to 10,000 feet MSL. The FAA has determined that some aircraft would have to fly farther or at lower (or higher) altitudes to remain clear of the planned MSP Class B airspace area; however, this is necessary to separate them from large turbine-powered aircraft arriving and departing MSP.

One hundred and sixty-four commenters (including 130 signed form letters from glider pilots who operate out of Benson Municipal Airport or Stanton Airfield) opposed the planned base altitude of 4,000 feet over Benson Municipal Airport and Stanton Airfield. The Benson Municipal Airport (located 17 miles to the north of I-MSP) is within the lateral limits of the current MSP Class B airspace area and the planned expansion of the 4,000-foot base altitude to 30 NM from I-MSP would require aircraft departing the Benson Municipal Airport to fly 13 miles farther to depart the lateral limits of the MSP Class B airspace area and may also interfere with glider operations at that airport. Glider operations may also be impacted at Stanton Airfield, which is located approximately 30 NM to the south of MSP on the edge of the planned MSP Class B airspace area. To address these concerns, the FAA has changed the planned modifications by raising the base altitude between 20 NM and 30 NM from I-MSP from 4,000 feet MSL to 7,000 feet MSL (with the exception of extensions to the east and west of MSP that must remain at 4,000 feet MSL to contain aircraft conducting simultaneous approaches. The planned modifications were also changed to include “cut-outs” 20 NM to the north and 25 NM to the south of I-MSP. These changes mitigate the impact on glider operations at the Benson Municipal Airport and Stanton Airfield, respectively.

Ad Hoc Committee

The Ad Hoc Committee was sponsored by Minnesota Department of Transportation, Office of Aeronautics and was comprised of representatives from the AOPA, EAA, Minnesota Soaring Clubs, International Aerobatics, Ultralight Association, Air National Guard, Life Flight, flight instructors, and skydivers. On May 14, 2002, the Ad Hoc Committee held the first of two meetings. During this meeting, representatives from the Minneapolis Airport Traffic Control Tower presented details of planned MSP Class B airspace area modifications, which reflected comments received as a result of informal airspace meetings. In general, the Ad Hoc Committee's comments on the planned modifications were favorable. However, several invited members of the Ad Hoc Committee were not present and the committee decided that an additional meeting was necessary to ensure that input was obtained from all members/organizations who had agreed to participate on the Ad Hoc Committee.

On June 25, 2002, the Ad Hoc Committee held their second and final meeting. During this meeting, participants presented comments and recommendations regarding the planned modifications presented at the first Ad Hoc Committee meeting. The Ad Hoc Committee then reached a consensus and drafted a consolidated recommendation that was submitted to the FAA. The consolidated recommendation contained the following two suggestions and one comment pertaining to aerobatic waivers:

1. Reduce the proposed expansion of Area E around the Stanton Airfield from the I-MSP 30-NM arc to the I-MSP 25-NM arc and raise the proposed floor in this area from 6,000 feet MSL to 7,000 feet MSL. The FAA has adopted this recommendation.

2. Provide a cutout in Area D over Benson Municipal Airport, bounded by the Farmington (FGT) Very High Frequency Omnidirectional Range/Tactical Air Navigation (VORTAC) 006° radial, the FGT VORTAC 015° radial, and the Gopher (GEP) VORTAC 095° radial. The FAA did not adopt this recommendation because the area is within the existing Class B airspace area and the published missed approach holding pattern used for the majority of MSP instrument approach procedures utilizes the Whisk intersection, which is located within the area that the recommendation suggests eliminating. Altitudes utilized by aircraft holding at the Whisk intersection are 3,000 feet MSL to 10,000 feet MSL.

Members of the Ad Hoc User Committee representing the aerobatic community also requested that currently held waivers for aerobatic activities remain in place. The FAA has determined that the planned Class B airspace area modifications would not require the cancellation of any existing waivers, nor would it interfere with the normal procedures required for authorizing future waivers.

The Proposal

The FAA is proposing an amendment to part 71 of the Federal Aviation Regulations (14 CFR part 71) to modify the MSP Class B airspace area. Specifically, this action (depicted on the attached chart) proposes to expand the upper limits of Area A, Area B, Area C, and Area D from 8,000 feet MSL to and including 10,000 feet MSL; expand the lateral limits of Area D to the northwest and southeast of MSP; and add an Area E within 30 NM of I-MSP (excluding areas to the north and south of MSP) to improve the containment of turbo-jet aircraft operating within the MSP Class B airspace area.

Area A. The FAA proposes to expand the upper limit of Area A from 8,000 feet MSL to 10,000 feet MSL. The reason for this change is to provide additional airspace needed to ensure that aircraft departing and arriving MSP are contained within the MSP Class B airspace area.

Area B. The FAA proposes to expand the upper limit of Area B from 8,000 feet MSL to 10,000 feet MSL. The reason for this change is to provide additional airspace needed to ensure that aircraft departing and arriving MSP are contained within the MSP Class B airspace area.

Area C. The FAA proposes to expand the upper limit of Area C from 8,000 feet MSL to 10,000 feet MSL. The reason for this change is to provide additional airspace needed to ensure that aircraft departing and arriving MSP are contained within the MSP Class B airspace area.

Area D. The FAA proposes to modify Area D by expanding the upper limit of Area D from 8,000 feet MSL to 10,000 feet MSL and by expanding the boundaries of Area D to the northwest and southeast of MSP incorporating airspace that lies on the extended ILS localizer course and downwind legs for Runways 12L/30R and 30L/12R, between the I-MSP 20-NM and 30-NM arcs. The reason for this change is to provide additional airspace needed to ensure that aircraft vectored for the ILS approaches to the above runways remain within the MSP Class B airspace area.

Area E. The FAA is proposing to add an Area E between the I-MSP 20-NM and 30-NM arcs, extending from 7,000 feet MSL to 10,000 feet MSL, excluding certain areas to the north and southeast of MSP. The reason for this change is to provide additional airspace needed to ensure that aircraft departing and arriving MSP are contained within the MSP Class B airspace area.

These modifications would improve the management of aircraft operations in the MSP terminal area and enhance safety by expanding the dimensions of the Class B airspace area to protect the aircraft conducting instrument approaches to MSP. Additionally, this proposed action supports various efforts to enhance the efficiency and capacity of the National Airspace System.

The coordinates for this airspace docket are based on North American Datum 83. Class B airspace areas are published in paragraph 3000 of FAA Order 7400.9L, Airspace Designations and Reporting Points, dated September 2, 2003, and effective September 16, 2003, which is incorporated by reference in 14 CFR section 71.1. The Class B airspace area listed in this document would be published subsequently in the Order.

Regulatory Evaluation Summary

Changes to Federal Regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this proposed rule: (1) Would generate benefits that justify its circumnavigation costs and is not a “significant regulatory action” as defined in the Executive Order; (2) is not significant as defined in the Department of Transportation's Regulatory Policies and Procedures; (3) would not have a significant impact on a substantial number of small entities; (4) would not constitute a barrier to international trade; and (5) would not contain any Federal intergovernmental or private sector mandate. These analyses are summarized here in the preamble, and the full Regulatory Evaluation is in the docket.

This NPRM would modify the Minneapolis-St. Paul, MN, Class B airspace area. The proposed rule would reconfigure the sub-area lateral boundaries, and raise the altitude ceiling in certain segments of the airspace.

The NPRM would generate benefits for system users and the FAA in the form of enhanced operational efficiency and simplified navigation in the MSP terminal area. These modifications would impose some circumnavigation costs on operators of non-compliant aircraft operating in the area around MSP. However, the cost of circumnavigation is considered to be small. Thus, the FAA has determined this proposed rule would be cost-beneficial.

Initial Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principal, the Act requires agencies to solicit and consider flexible regulatory proposals and to explain the rationale for their actions. The Act covers a widerange of small entities, including small businesses, not-for-profit organizations, and small governmental jurisdictions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the 1980 Act provides that the head of the agency may so certify and an RFA is not required. The certification must include a statement providing the factual basis for this determination, and the reasoning should be clear.

This proposed rule may impose some circumnavigation costs on individuals operating in the Minneapolis-St. Paul terminal area; but the proposed rule would not impose any costs on small business entities. Operators of general aviation aircraft are considered individuals, not small business entities and are not included when performing a regulatory flexibility analysis. Flight schools are considered small business entities. However, the FAA assumes that they provide instruction in aircraft equipped to navigate in Class B airspace given they currently provide instruction in the Minneapolis-St. Paul terminal area. Air taxis are also considered small business entities, but are assumed to be properly equipped to navigate Class B airspace because it is part of their current practice. Therefore, these small entities should not incur any additional costs as a result of the proposed rule. Accordingly, pursuant to the Regulatory Flexibility Act, 5 U.S.C. 605(b), the Federal Aviation Administration certifies this rule would not have a significant economic impact on a substantial number of small entities. The FAA solicits comments from affected entities with respect to this finding and determination.

International Trade Impact Assessment

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

The proposed rule is not expected to affect trade opportunities for U.S. firms doing business overseas or for foreign firms doing business in the United States.

Unfunded Mandates Assessment

Title II of the Unfunded Mandates Reform Act of 1995 (the Act), enacted as Public Law 0104-4 on March 22, 1995, requires each Federal agency, to the extent permitted by law, to prepare a written assessment of the effects of any Federal mandate in a proposed or final agency rule that may result in the expenditure of $100 million or more (when adjusted annually for inflation) in any one year by State, local, and tribal governments in the aggregate, or by the private sector. Section 204(a) of the Act, 2 U.S.C. 1534(a), requires the Federal agency to develop an effective process to permit timely input by elected officers (or their designees) of State, local, and tribal governments on a proposed “significant intergovernmental mandate.” A “significant intergovernmental mandate” under the Act is any provision in a Federal agency regulation that would impose an enforceable duty upon State, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity for these small governments to provide input in the development of regulatory proposals.

This proposed rule does not contain any Federal intergovernmental or private sector mandates. Therefore, the requirements of Title II of the Unfunded Mandates Reform Act of 1995 do not apply.

Paperwork Reduction Act

In accordance with the Paperwork Reduction Act of 1980 (Pub. L. 96-511), there are no requirements for information collection associated with this proposed rule.

Conclusion

In view of the minimal or zero cost of compliance of the proposed rule and the enhancements to operational efficiency that do not reduce aviation safety, the FAA has determined that the proposed rule would be cost-beneficial.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES, AND REPORTING POINTS

1. The authority citation for part 71 continues to read as follows:

Authority: 49 U.S.C. 106(g), 40103, 40113, 40120; E.O. 10854, 24 FR 9565, 3 CFR, 1959-1963 Comp., p. 389.

§ 71.1 [Amended]

1. The incorporation by reference in 14 CFR 71.1 of the Federal Aviation Administration Order 7400.9L, Airspace Designations and Reporting Points, dated September 2, 2003, and effective September 16, 2003, is amended as follows:

Paragraph 3000 Subpart B-Class B Airspace

* * * * *

AGL MN B Minneapolis-St. Paul, MN (Revised)

Minneapolis-St. Paul International (Wold-Chamberlain) Airport (MSP)(Primary Airport)

(Lat. 44°52′83″ N., long. 93°13′02″ W.)

Gopher VORTAC (GEP)

(Lat. 45°08′45″ N., long. 93°22′24″ W.)

Flying Cloud VOR/DME (FCM)

(Lat. 44°49′33″ N., long. 93°27′24″ W.)

Point of Origin: Minneapolis-St. Paul International (Wold-Chamberlain) Airport DME Antenna (I-MSP)

(Lat. 44°52′26.25″ N., long. 93°12′19.5″ W.)

Boundaries

Area A. That airspace extending upward from the surface to and including 10,000 feet MSL within a 6-mile radius of I-MSP.

Area B. That airspace extending from 2,300 feet MSL to and including 10,000 feet MSL within an 8.5-mile radius of I-MSP, excluding Area A previously described.

Area C. That airspace extending from 3,000 feet MSL to and including 10,000 feet MSL within a 12-mile radius of I-MSP, excluding Area A and Area B previously described.

Area D. That airspace extending from 4,000 feet MSL to and including 10,000 feet MSL within a 20-mile radius of I-MSP and including that airspace within a 30-mile radius from the Flying Cloud 295° radial clockwise to the Gopher 295° radial and from the Gopher 115° radial clockwise to the Flying Cloud 115° radial, excluding Area A, Area B, and Area C previously described.

Area E. That airspace extending from 7,000 feet MSL to and including 10,000 feet MSL within a 30-mile radius of I-MSP from the Gopher 295° radial clockwise to the Gopher 352° radial, and from the Gopher 085° radial clockwise to the Gopher 115° radial, and from the Flying Cloud 115° radial clockwise to the Flying Cloud 295° radial excluding that airspace between a 25-mile radius and a 30-mile radius between the Flying Cloud 115° radial clockwise to the Gopher 170° radial and excluding Area A, Area B, Area C, and Area D previously described.

* * * * *

Issued in Washington, DC, on November 17, 2003.
Reginald C. Matthews,
Manager, Airspace and Rules Division.

[FR Doc. 03-29202 Filed 11-21-03; 8:45 am]

BILLING CODE 4910-13-C